DEPARTMENT OF LABOR

Pension and Welfare Benefits Administration

Proposed Extension of Information Collection Request Submitted for Public Comment and Recommendation; Definition of “Plan Assets”—Participant Contributions

ACTION: Notice.

SUMMARY: The Department of Labor (the Department), as part of its continuing effort to reduce paperwork and respondent burden, provides the general public and Federal agencies with an opportunity to comment on proposed and/or continuing collections of information in accordance with the Paperwork Reduction Act of 1995 (PRA 95) (44 U.S.C. 3506(c)(2)(A)). This program helps to ensure that requested data can be provided in the desired format, reporting burden (time and financial resources) is minimized, collection instruments are clearly understood, and the impact of collection requirements on respondents can be properly assessed. Currently, the Pension and Welfare Benefits Administration is soliciting comments concerning the proposed extension of a currently approved collection of information, Definition of Plan Assets—Participant Contributions, CFR § 2510.3-102. A copy of the proposed information collection request can be obtained by contacting the individual listed below in the address section of this notice.

DATES: Written comments must be submitted on or before March 20; 2000.

ADDRESSES: Gerald B. Lindrew, Department of Labor, Pension and Welfare Benefits Administration, 200 Constitution Avenue, NW, Washington, D.C. 20210, (202) 219-4782 (not a toll-free number), FAX (202) 219-4745.

SUPPLEMENTARY INFORMATION:

I. Background

This regulation describes when certain monies, which a participant pays to or has withheld by an employer for contribution to an employee benefit plan, are “plan assets” for purposes of Title I of the Employee Retirement Security Act of 1974 (ERISA) and the related prohibited transaction provisions of the Internal Revenue Code (IRC). The regulation establishes that participant contributions to an employee pension benefit plan become plan assets on the earliest date that they can reasonably be segregated from an employer's general assets, but in no event later than 15 business days for pension plans, 90 days for welfare plans, and, in the case of SIMPLE Retirement Accounts, 30 days following the month in which the contribution amounts would otherwise have been payable to the participant in cash.

The regulation also establishes a procedure (for pension plans only) whereby an employer may obtain an additional 10 business days to comply with the contribution time limits. In order to take advantage of this opportunity, an employer is required to satisfy certain exemption conditions, including notification to participants, bonding, and certification to the Secretary of the Department of Labor when the funds are transmitted. These conditions are intended to protect participant contributions and provide the Department with adequate notice of an employer's compliance.

II. Desired Focus of Comments

The Department of Labor (Department) is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The regulation provides guidance for fiduciaries, participants, and beneficiaries of employee benefit plans on the requirements for transmission of employee contributions withheld from wages. Extension of the information collection provision of the regulation is important because delays in the transmittal of funds may result in lost earnings to pension plan participants and beneficiaries. In addition, for those employers who may have difficulty meeting regulation deadlines for participant contribution transmissions, the extension provision of the regulation provides an alternate means of employer compliance with the regulation, while providing participants, beneficiaries, and the Department with sufficient information to protect their rights under ERISA.

This notice requests comments on the extension of the ICR included in the regulation governing the definition of “plan assets.” The Department is not proposing or implementing changes to the existing ICR at this time. Comments received in response to this notice will be incorporated in the submission to OMB for continued clearance of the ICR.

Type of Review: Extension.

Agency: Pension and Welfare Benefits Administration.

Title: Definition of Plan Assets—Participant Contributions.

OMB Number: 1210-0100.

Affected Public: Business or other for-profit, Not-for-profit institutions, Individuals.

Total Respondents: 1.

Frequency: On occasion.

Total Responses: 1.

Average Time Per Response: 6 hours.

Estimated Total Burden Hours: 2.

Total Burden Cost (Operating and Maintenance): $300.

Comments submitted in response to this notice will be summarized and/or included in the request for Office of Management and Budget approval of the information collection request; they will also become a matter of public record.

Dated: January 11, 2000.
Gerald B. Lindrew,
Deputy Director, Office of Policy and Research, Pension and Welfare Benefits Administration.

[FR Doc. 00-1093 Filed 1-14-00; 8:45 am]

BILLING CODE 4510-29-M